DEPARTMENT OF HOMELAND SECURITY

Coast Guard

[Docket No. USCG-2011-0246]

Risk-Based Targeting of Foreign Flagged Mobile Offshore Drilling Units (MODUs)

AGENCY: Coast Guard, DHS.

ACTION: Notice of availability.

SUMMARY: The Coast Guard announces the availability of Office of Vessel Activities Policy Letter 11-06, Risk-Based Targeting of Foreign Flagged Mobile Offshore Drilling Units (MODUs). This policy letter announces changes to the Coast Guard's system used to prioritize inspections of foreign-flagged MODUs.

DATES: This policy will become effective on July 7, 2011.

ADDRESSES: This notice and the policy are available in the docket and can be viewed by going to http://www.regulations.gov, inserting USCG-2011-0246 in the “Keyword” box, and then clicking “Search.” This material is also available for inspection or copying at the Docket management Facility (M-30), U.S. Department of Transportation, West Building Ground Floor, Room W12-140, 1200 New Jersey Avenue, SE., Washington, DC 20590, between 9 a.m. and 5 p.m., Monday through Friday, except Federal Holidays. This policy is also available at http://homeport.uscg.mil by clicking the “Library” tab > Policy > Policy letters (inspection); CG-543 Policy Letter 11-06.

FOR FURTHER INFORMATION CONTACT: If you have questions on this notice, call or e-mail LT. Rachelle N. Samuel, Foreign and Offshore Vessels Division (CG-5432), U.S. Coast Guard; telephone 202-372-2267, e-mail Rachelle.N.Samuel@uscg.mil. If you have questions on viewing or submitting material to the docket, call Renee V. Wright, Program Manager, Docket Operations, telephone 202-366-9826.

SUPPLEMENTARY INFORMATION:

Background and Purpose

In order to ensure maritime safety and compliance with all applicable regulations, every foreign-flagged mobile offshore drilling unit (MODU) must undergo a Coast Guard Certificate of Compliance (COC) examination in order to operate on the U.S. Outer Continental Shelf (OCS). This certifies that the MODU complies with 33 CFR Part 143 and permits the MODU to conduct OCS activities. Upon a satisfactory completion of the COC examination, the Coast Guard will issue the MODU a certificate valid for a period of 2 years. In addition, the Coast Guard will conduct a mid-period examination a year later to ensure the MODU remains in full compliance.

Before the issuance of this policy letter, aside from this annual exam requirement, there was no process in place to identify a foreign-flagged MODU that may require additional Coast Guard oversight while operating on the U.S. OCS (i.e. based on inspection history or other related factors). In response to April 2010 MACONDO 252 incident, the Coast Guard has taken steps to improve oversight of foreign-flagged MODUs.

Office of Vessel Activities Policy Letter 11-06 addresses this issue by detailing inspection procedures using the newly developed MODU Safety and Environmental Protection Compliance Targeting Matrix. This targeting matrix will enable the Coast Guard to rationally and systematically determine the probable risk posed by foreign flagged MODUs operating on the U.S. OCS by identifying foreign-flagged MODUs that may require increased oversight.

The matrix operates by recording five variables that the Coast Guard will use to determine whether a MODU should be subject to more frequent examinations to ensure compliance with safety regulations. If a MODU exhibits characteristics indicative of poor safety or environmental compliance, points are assigned for that variable. If a MODU accumulates a certain number of points, it is assigned “priority” status and will be subject to more frequent inspections by the Coast Guard. These variables, which are described in detail in the policy advisory, include:

• Management: points will be assigned if the MODUs management company has a history of vessels detained in the U.S. in the previous 12 months.

• Flag: points will be assigned if the MODU's Flag Administration is a country with a higher than average rate of vessel detention.

• Classification Society/Recognized Organization: points will be assigned if MODU is certified by a Classification Society/Recognized Organization that has a high safety detention ratio.

• Vessel History: points will be assigned for 1st time to U.S., no history of Coast Guard examinations, or history of operational controls, marine casualties or violations.

• MODU Particulars: points may be assigned based on certain characteristics of the MODU, such as propulsion, design (e.g. semi-submersible, jack-up), or age.

This policy letter also contains information collection procedures for Coast Guard personnel and documentation for use in examinations of foreign-flagged MODUs.

Owners and operators of foreign flagged MODUs should review Policy Letter 11-06 and ensure their vessels are in compliance with the applicable regulations. MODUs that maintain their vessels consistently within the applicable regulations should not be subject to increased inspections.

This notice is issued under the authority of 5 U.S.C. 552 (a), 43 U.S.C. 1333(d), 43 U.S.C. 1348(c), and 14 U.S.C. 664.

Dated: June 17, 2011
Kevin S. Cook,
Rear Admiral, U.S. Coast Guard, Director of Prevention Policy.

[FR Doc. 2011-17112 Filed 7-6-11; 8:45 am]

BILLING CODE 9110-04-P